DEPARTMENT OF COMMERCE

National Oceanic and Atmospheric Administration

RIN 0648-XG826

Caribbean Fishery Management Council; Public Meeting

AGENCY: National Marine Fisheries Service (NMFS), National Oceanic and Atmospheric Administration (NOAA), Commerce.

ACTION: Notice of a public meeting.

SUMMARY: The Caribbean Fishery Management Council's (Council) Scientific and Statistical Committee (SSC) and Districts Advisory Panels (DAPs) will hold a 3-day joint meeting, in March, to discuss the items contained in the agenda in the SUPPLEMENTARY INFORMATION.

DATES: The meetings will be held on March 26, 2019, from 9 a.m. to 5 p.m., March 27, 2019, from 9 a.m. to 5 p.m., and March 28, 2019, from 9 a.m. to 5 p.m.

ADDRESSES: The meetings will be held at the Embassy Suites Hotel, Tartak St., Isla Verde, Carolina, Puerto Rico.

FOR FURTHER INFORMATION CONTACT: Caribbean Fishery Management Council, 270 Muñoz Rivera Avenue, Suite 401, San Juan, Puerto Rico 00918-1903, telephone: (787) 766-5926.

SUPPLEMENTARY INFORMATION: The agenda for the meeting is the following:

March 26, 2019, 9 a.m.-12 p.m.

DAPs/SSC

—Call to Order and Welcome—Miguel A. Rolón

—SSC and DAP Members as Resources for Outreach and Education for the Stakeholders—Alida Ortíz

—Using Conceptual Models in an Ecosystem-Based Fisheries Management Framework

—Review of Ecosystem Conceptual Model and Applications

—Application for Risk Assessment

—DAPs and SSC Breakout Sessions to Populate Island-Based Conceptual Models

12 p.m.-1:30 p.m.

—Lunch Break

1:30 p.m.-5 p.m.

—DAPs and SSC Continuation of Breakout Sessions

March 27, 2019, 9 a.m.-10:30 a.m.

DAPs

—Continuation of DAPs Breakout Sessions

10:45 a.m.-12 p.m.

—DAPs Chairs Reports to the Plenary

12 p.m.-1:30 p.m.

—Lunch Break

1:30 p.m.-5 p.m.

SSC

—Review Conceptual Model Outcomes

—Refine Risk Assessment Tables Based on Island-Based Conceptual Model Outcomes

—Populate Risk Assessment Table

March 28, 2019, 9 a.m.-5 p.m.

SSC

—Populate Risk Assessment Tables

—Develop Recommendations to CFMC

—Other Business

The order of business may be adjusted as necessary to accommodate the completion of agenda items. The meeting will begin on March 26, 2019 at 9 a.m. and will end on March 28, 2019 at 5 p.m. Other than the start time, interested parties should be aware that discussions may start earlier or later than indicated. In addition, the meeting may be extended from, or completed prior to the date established in this notice.

Special Accommodations

These meetings are physically accessible to people with disabilities. For more information or request for sign language interpretation and other auxiliary aids, please contact Mr. Miguel A. Rolón, Executive Director, Caribbean Fishery Management Council, 270 Muñoz Rivera Avenue, Suite 401, San Juan, Puerto Rico, 00918-1903, telephone: (787) 766-5926, at least 5 days prior to the meeting date.

Dated: February 15, 2019.
Tracey L. Thompson,
Acting Deputy Director, Office of Sustainable Fisheries, National Marine Fisheries Service.

[FR Doc. 2019-02962 Filed 2-20-19; 8:45 am]

BILLING CODE 3510-22-P